DEPARTMENT OF JUSTICE

[OMB Number 1121-0220]

Agency Information Collection Activities; Proposed eCollection eComments Requested; Public Safety Officers' Educational Assistance (PSOEA)

AGENCY: Bureau of Justice Assistance, Department of Justice.

ACTION: 30-Day notice.

SUMMARY: The Office of Justice Programs, Department of Justice (DOJ), will be submitting the following information collection request to the Office of Management and Budget (OMB) for review and approval in accordance with the Paperwork Reduction Act of 1995. The proposed information collection was previously published in the Federal Register on December 20, 2023, allowing a 60-day comment period.

DATES: Comments are encouraged and will be accepted for 30 days until April 22, 2024.

FOR FURTHER INFORMATION CONTACT: If you have comments especially on the estimated public burden or associated response time, suggestions, or need a copy of the proposed information collection instrument with instructions or additional information, please contact: Hope D. Janke, Director, Director, Public Safety Officers' Benefits Office, Bureau of Justice Assistance, Office of Justice Programs, U.S. Department of Justice, 810 7th Street NW, Washington, DC 20531, telephone: (202) 307-2858, or email: hope.d.janke@usdoj.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1121-0220. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Extension of a currently approved collection.

2. The Title of the Form/Collection: Public Safety Officers Educational Assistance.

3. The agency form number: No form number.

4. Affected public who will be asked or required to respond, as well as a brief abstract: Primary: State, local, and tribal governments. Abstract: BJA's Public Safety Officers' Benefits (PSOB) Office will use the PSOEA Application information to confirm the eligibility of applicants to receive PSOEA benefits. Eligibility is dependent on several factors, including the applicant having received or being eligible to receive a portion of the PSOB Death Benefit, or having a spouse or parent who received the PSOB Disability Benefit. Also considered are the applicant's age and the schools being attended. In addition, information to help BJA identify an individual is collected, such as contact numbers and email addresses.

5. Obligation to Respond: Voluntary.

6. Total Estimated Number of Respondents: It is estimated that no more than 300 new respondents will apply a year.

7. Estimated Time per Respondent: Each application takes approximately 30 minutes to complete.

8. Frequency: Once annually.

9. Total Estimated Annual Time Burden: The estimated public burden associated with this collection is 150 hours. It is estimated that new respondents will take 30 minutes to complete an application. The burden hours for collecting respondent data sum to 150 hours (300 respondents × 0.5 hours = 150 hours).

10. Total Estimated Annual Other Costs Burden: There is no cost estimate.

If additional information is required, contact: Darwin Arceo, Department Clearance Officer, Policy and Planning Staff, Justice Management Division, United States Department of Justice, Two Constitution Square, 145 N Street NE, 4W-218 Washington, DC 20530.

Dated: March 18, 2024.
Darwin Arceo,
Department Clearance Officer for PRA, U.S. Department of Justice.

[FR Doc. 2024-05988 Filed 3-20-24; 8:45 am]

BILLING CODE 4410-18-P